DEPARTMENT OF DEFENSE

Department of the Army, Corps of Engineers

Notice of Availability of the Final Supplemental Environmental Impact Statement on Rock Mining in the Lake Belt Region of Miami-Dade County, FL (Lake Belt SEIS)

AGENCY: U.S. Army Corps of Engineers, DoD.

ACTION: Notice of availability.

SUMMARY: The U.S. Army Corps of Engineers (USACE) is issuing this notice to advise the public that a Final Supplemental Environmental Impact Statement (Final SEIS) has been completed and is available for review and comment.

DATES: In accordance with the National Environmental Policy Act (NEPA), we have filed the Final EIS with the U.S. Environmental Protection Agency (EPA) for publication of their notice of availability in the Federal Register. The EPA notice officially starts the 30-day review period for this document. It is the goal of the USACE to have this notice published on the same date as the EPA notice. However, if that does not occur, the date of the EPA notice will determine the closing date for comments on the Final EIS. Comments on the Final EIS must be submitted to the address below under FOR FURTHER INFORMATION CONTACT and must be received no later than 5 p.m. Eastern Standard Time, Monday, June 8, 2009.

ADDRESSES: The Final EIS can be viewed online at http://www.lakebeltseis.com/. Copies of the Final EIS are also available for review at the following libraries: Doral Branch, Miami-Dade County Public Library, 10785 NW. 58th Street, Doral Florida International Mall Branch, Miami-Dade County Public Library—10315 NW 12th Street, Miami, Florida 33172.

FOR FURTHER INFORMATION CONTACT: Ms. Leah Oberlin, Project Manager, U.S. Army Corps of Engineers, Jacksonville District, 4400 PGA Boulevard, Suite 500, Palm Beach Gardens, Florida 33410, Telephone: 561-472-3506, Fax: 561-626-6971.

SUPPLEMENTARY INFORMATION: The USACE is evaluating proposals to fill Waters of the United States in association with limestone mining and related activities in an area of Miami-Dade County known as the Lake Belt. The USACE has analyzed both offsite and onsite alternatives for those that could reasonably satisfy the project purpose, and has carried forward eight alternatives for mining for further detailed analysis along with a No-Action Alternative (Alternative 1). Under the No Action Alternative, mining in the Lake Belt area requiring Department of the Army (DA) permits would not be restarted and the USACE would not issue any additional DA permits for mining in the Lake Belt. Under the other alternatives, mining would be permitted in the Lake Belt area in varying degrees for varying lengths of time. The affected environment is primarily the area immediately surrounding the Lake Belt area in northern Miami-Dade County. Analyses indicate that the environmental impacts are closely tied to the number of acres proposed to be mined, with alternatives proposing the largest amount of mining having the largest environmental impacts for most of the areas of concern. The primary discriminators are: Natural cover types and wetlands, habitat units, potential impacts to endangered wood storks, hydrology, water quality, and socioeconomics. A mitigation plan has been evaluated that could offset many of the potential environmental impacts including seepage.

Dated: April 30, 2009.
Donald W. Kinard,
Deputy Chief, Regulatory Division.

[FR Doc. E9-10611 Filed 5-6-09; 8:45 am]

BILLING CODE 3710-92-P